DEPARTMENT OF COMMERCE

International Trade Administration

[C-533-825]

Polyethylene Terephthalate Film, Sheet, and Strip From India: Preliminary Results of Countervailing Duty Administrative Review and Partial Rescission of Administrative Review; 2021

AGENCY: Enforcement and Compliance, International Trade Administration, Department of Commerce.

SUMMARY: The U.S. Department of Commerce (Commerce) preliminarily determines that countervailable subsidies are being provided to certain producers and exporters of polyethylene terephthalate film, sheet, and strip (PET film) from India during the period of review (POR) January 1, 2021, through December 31, 2021. We are rescinding this review with respect to seven companies. Interested parties are invited to comment on these preliminary results.

DATES: Applicable August 2, 2023.

FOR FURTHER INFORMATION CONTACT: John McGowan, AD/CVD Operations, Office I, Enforcement and Compliance, International Trade Administration, U.S. Department of Commerce, 1401 Constitution Avenue NW, Washington, DC 20230; telephone: (202) 482-0461.

Background

On July 1, 2002, Commerce published in the Federal Register the countervailing duty (CVD) order on PET film from India.¹ On September 6, 2022, Commerce published in the Federal Register the notice of initiation of an administrative review of the Order with respect to eight companies.² On October 27, 2022, Commerce selected SRF Ltd. (SRF) as the sole mandatory respondent.³ Between December 2 and 5, 2022, DuPont Teijin Films, Mitsubishi Chemical America, Inc.—Polyester Film Division, and SK Microworks America, Inc. (collectively, the petitioners), Polyplex Corporation Ltd., and SRF withdrew their requests for review regarding all companies, except Jindal Poly Films Limited (Jindal).⁴ Therefore, on December 9, 2022, we selected Jindal as the sole mandatory respondent.⁵ On December 12, 2022, we reissued the initial questionnaire to the Government of India.⁶ Subsequently, Jindal failed to provide a timely response to the affiliated companies portion of section III of the initial questionnaire by the December 26, 2022 deadline.⁷ Pursuant to section 751(a)(3)(A) of the Tariff Act of 1930, as amended (the Act), Commerce extended the deadline for the preliminary results of this administrative review to July 28, 2023.⁸

¹ See Countervailing Duty Order; Polyethylene Terephthalate Film Sheet, and Strip (PET Film) from India, 67 FR 44179 (July 1, 2002) (Order).

² See Initiation of Antidumping and Countervailing Duty Administrative Reviews, 87 FR 54463 (September 6, 2022).

³ See Memorandum, “Respondent Selection,” dated October 27, 2022.

⁴ See Polyplex's Letter, “Withdrawal of Request for Review for Polyplex USA LLC,” dated December 2, 2022 (Polyplex Withdrawal Request); SRF's Letter, “Withdrawal of Request for Countervailing Duty Admin Review of SRF,” dated December 5, 2022 (SRF Withdrawal Request); and Petitioners' Letter, “Withdrawal of Request for Countervailing Duty Administrative Review,” dated December 5, 2022 (Petitioners Withdrawal Request).

⁵ See Memorandum, “Intent to Rescind Review, in Part, and Company Subject to Individual Examination,” dated December 9, 2022.

⁶ See Commerce's Letter, “Countervailing Duty Questionnaire,” dated December 12, 2022 (Initial Questionnaire).

⁷ Id.

⁸ See Memoranda, “Extension of Deadline for Preliminary Results,” dated March 28, 2023; and “Second Extension of Deadline for Preliminary Results,” dated May 17, 2023.

For a complete description of the events that followed the initiation of this review, see the Preliminary Decision Memorandum.⁹ A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁹ See Memorandum, “Decision Memorandum for the Preliminary Results of Countervailing Duty Administrative Review: Polyethylene Terephthalate Film, Sheet, and Strip (PET film) from India,” dated concurrently with, and hereby adopted by, this notice (Preliminary Decision Memorandum).

Scope of the Order

The products covered by this Order are PET film from India. For a complete description of the scope, see the Preliminary Decision Memorandum.¹⁰

¹⁰ Id. at 3.

Methodology

Commerce is conducting this review in accordance with section 751(a)(l)(A) of the Act. For each of the subsidy programs found to be countervailable, we preliminarily determine that there is a subsidy, i.e., a government-provided financial contribution that gives rise to a benefit to the recipient, and that the subsidy is specific.¹¹ For a full description of the methodology underlying our conclusions, including our reliance on adverse facts available pursuant to sections 776(a) and (b) of the Act, see the Preliminary Decision Memorandum.

¹¹ See sections 771(5)(B) and (D) of the Act regarding financial contribution; section 771(5)(E) of the Act regarding benefit; and section 771(5A) of the Act regarding specificity.

Partial Rescission of Administrative Review

Pursuant to 19 CFR 351.213(d)(1), Commerce will rescind an administrative review, in whole or in part, if the parties that requested a review withdraw the request within 90 days of the date of publication of the notice of initiation. Commerce received timely-filed withdrawal requests with respect to the following seven companies: (1) Ester Industries Ltd.; (2) Garware Polyester Ltd.; (3) Vacmet India Ltd.; (4) MTZ Polyesters Ltd.; (5) Uflex Ltd.; (6) SRF; and (7) Polyplex.¹² Because the withdrawal requests were timely filed, and no other parties requested a review of these companies, in accordance with 19 CFR 351.213(d)(1), Commerce is rescinding this review of the Order with respect to the seven companies noted above.

¹² See Polyplex Withdrawal Request; SRF Withdrawal Request; and Petitioners Withdrawal Request.

Preliminary Results of Review

As a result of this review, we preliminarily determine that the following estimated countervailable subsidy rates exist for the period January 1, 2021, through December 31, 2021:

Company | Subsidy rate 2021 (percent ad valorem)
Jindal Poly Films Limited | 116.96

Cash Deposit Requirements

Pursuant to section 751(a)(2)(C) of the Act, Commerce intends, upon publication of the final results, to instruct U.S. Customs and Border Protection (CBP) to collect cash deposits of estimated countervailing duties in the amounts shown for each of the respondents listed above on shipments of subject merchandise entered, or withdrawn from warehouse, for consumption on or after the date of publication of the final results of this administrative review. If the rate calculated in the final results is zero or de minimis, no cash deposit will be required on shipments of the subject merchandise entered or withdrawn from warehouse, for consumption on or after the date of publication of the final results of this review.

Assessment Rates

In accordance with 19 CFR 351.221(b)(4)(i), we preliminarily assigned subsidy rates in the amounts shown above for the producers/exporters shown above. Consistent with section 751(a)(1) of the Act and 19 CFR 351.212(b)(2), upon issuance of the final results, Commerce shall determine, and CBP shall assess, countervailing duties on all appropriate entries covered by this review. We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which this review is rescinded with these preliminary results, we will instruct CBP to assess countervailing duties on all appropriate entries at a rate equal to the cash deposit of estimated countervailing duties required at the time of entry, or withdrawal from warehouse, for consumption, during the period January 1, 2021, through December 31, 2021, in accordance with 19 CFR 351.212(c)(l)(i).

Disclosure

Normally, Commerce discloses its calculations and analysis performed in connection with the preliminary results to interested parties within five days of its public announcement, or if there is no public announcement, within five days of the date of publication of this notice, in accordance with 19 CFR 351.224(b). However, because Commerce preliminarily applied total adverse facts available (AFA) in the calculation of the benefit for Jindal, and the applied AFA rates are based on rates calculated in prior segments of the proceeding, there are no calculations to disclose.

Public Comment

Case briefs or other written comments may be submitted to the Assistant Secretary for Enforcement and Compliance no later than 30 days after the publication of these preliminary results of review in the Federal Register.¹³ Rebuttal comments, limited to issues raised in case briefs, may be submitted no later than seven days after the deadline for filing case briefs.¹⁴ Parties who submit case or rebuttal briefs in this administrative review are encouraged to submit with each argument: (1) a statement of the issue; (2) a brief summary of the argument; and (3) a table of authorities.¹⁵ Case and rebuttal briefs must be filed using ACCESS.¹⁶ An electronically filed document must be received successfully in its entirety by ACCESS by 5:00 p.m. Eastern Time on the established deadline. Note that Commerce has temporarily modified certain of its requirements for serving documents containing business proprietary information, until further notice.¹⁷

¹³ See 19 CFR 351.309(c)(1)(ii).

¹⁴ See 19 CFR 351.309(d).

¹⁵ See 19 CFR 351.309(c)(2) and 351.309(d)(2).

¹⁶ See 19 CFR 351.303.

¹⁷ See 19 CFR 351.309; 19 CFR 351.303 (for general filing requirements); and Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, filed electronically using ACCESS. An electronically-filed request must be received successfully, and in its entirety, by ACCESS by 5:00 p.m. Eastern Time, within 30 days after the date of publication of this notice. Hearing requests should contain: (1) the party's name, address, and telephone number; (2) the number of participants; and (3) a list of the issues to be discussed. If a request for a hearing is made, parties will be notified of the date and time for the hearing to be determined.

Final Results

Unless extended, we intend to issue the final results of this administrative review, which will include the results of our analysis of the issues raised in the case briefs, within 120 days of publication of these preliminary results in the Federal Register, pursuant to section 751(a)(3)(A) of the Act.

Notification to Interested Parties

These preliminary results of review are issued and published in accordance with sections 751(a)(1) and 777(i)(1) of the Act, and 19 CFR 351.213 and 351.221(b)(4).

Dated: July 27, 2023.
Abdelali Elouaradia,
Deputy Assistant Secretary for Enforcement and Compliance.

Appendix I

List of Topics Discussed in the Preliminary Decision Memorandum

I. Summary

II. Background

III. Scope of the Order

IV. Partial Rescission of Administrative Review

V. Use of Facts Otherwise Available and Adverse Inferences

VI. Analysis of Programs

VIII. Recommendation

Appendix II

List of Companies Commerce Is Rescinding on in This Administrative Review

1. Ester Industries Ltd.

2. Garware Polyester Ltd.

3. Vacmet India Ltd.

4. MTZ Polyesters Ltd.

5. Uflex Ltd.

6. SRF Ltd.

7. Polyplex Corporation Ltd.

[FR Doc. 2023-16464 Filed 8-1-23; 8:45 am]

BILLING CODE 3510-DS-P